ENVIRONMENTAL PROTECTION AGENCY

[FRL-7137-3]

Notice of Meeting of the EPA's Children's Health Protection Advisory Committee (CHPAC)

AGENCY: Environmental Protection Agency (EPA).

ACTION: Notice of meeting.

SUMMARY: Pursuant to the provisions of the Federal Advisory Committee Act, Pub. L. 92-463, notice is hereby given that the next meeting of the Children's Health Protection Advisory Committee (CHPAC) will be held February 27-March 1, 2002 at the Hotel Washington, Washington, DC. The CHPAC was created to advise the Environmental Protection Agency on science, regulations, and other issues relating to children's environmental health.

DATES: Wednesday, February 27, Science/Regulatory Work Group, the Schools Work Group, and the Data Needs Workgroup will meet; plenary sessions Thursday, February 28 and Friday, March 1, 2002.

ADDRESSES: Hotel Washington, 515 15th Street, NW., Washington, DC.

AGENDA ITEMS: The meetings of the CHPAC are open to the public. The Science/Regulatory Work Group will meet February 27, from 9 a.m. to 5:30 p.m. The Schools Work Group, and the Data Needs Workgroup will meet on February 27 from 10 a.m. to 4 p.m The plenary CHPAC will meet on Thursday, February 28, from 9 a.m. to 5:30 p.m., with a public comment period at 5 p.m., and on Friday, March 1 from 9 a.m. to 12:30 p.m.

The plenary session will open with introductions and a review of the agenda and objectives for the meeting. Agenda items include highlights of the Office of Children's Health Protection (OCHP) activities and a reports from the Schools Work Group, the Data Needs Work Group, and the Science and Regulator Work Group. Other potential agenda items include an informational panel on smart growth and the built environment and it's potential effect on children's health.

FOR FURTHER INFORMATION CONTACT: Joanne Rodman, Office of Children's Health Protection, USEPA, MC 1107A, 1200 Pennsylvania Avenue, NW, Washington, DC 20460, (202) 564-2188, rodman.joanne@epa.gov.

Dated: January 29, 2002.
Joanne K. Rodman,
Designated Federal Official.

[FR Doc. 02-2614 Filed 2-1-02; 8:45 am]

BILLING CODE 6560-50-P